ENVIRONMENTAL PROTECTION AGENCY

[EPA-HQ-OAR-2025-0085; FRL-12667-01-OAR; EPA ICR No. 2691.03, OMB Control Number 2060-0740]

Agency Information Collection Activities; Proposed Information Collection Request; Comment Request; Renewable Fuel Standard (RFS) Program: RFS Annual Rules

AGENCY: Environmental Protection Agency (EPA).

ACTION: Notice.

SUMMARY: The Environmental Protection Agency (EPA) is planning to submit an information collection request (ICR), Renewable Fuel Standard (RFS) Program: RFS Annual Rules (EPA ICR Number 2691.03, OMB Control Number 2060-0740) to the Office of Management and Budget (OMB) for review and approval in accordance with the Paperwork Reduction Act. Before doing so, EPA is soliciting public comments on specific aspects of the proposed information collection as described below. This is a proposed extension of the ICR, which is currently approved through October 31, 2025. This notice allows for 60 days for public comments.

DATES: Comments must be submitted on or before June 27, 2025.

ADDRESSES: Submit your comments, referencing Docket ID Number EPA-HQ-OAR-2025-0085, to EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Anne-Marie C. Pastorkovich, Office of Air and Radiation, Mail Code 6405A, Environmental Protection Agency, 1200 Pennsylvania Ave. NW, Washington, DC 20460; telephone number: 202-343-9623; email address: pastorkovich.anne-marie@epa.gov.

SUPPLEMENTARY INFORMATION: This is a proposed extension of the ICR, which is currently approved through October 31, 2025. An agency may not conduct or sponsor, and a person is not required to respond to, a collection of information unless it displays a currently valid OMB control number.

This document allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: This ICR is for provisions regarding biointermediates in the Renewable Fuel Standard (RFS) program. A “biointermediate” is produced from a renewable biomass feedstock at a biointermediate production facility and is not itself a renewable fuel; the biointermediate will be processed into a renewable fuel at a subsequent renewable fuel production facility. The biointermediate provisions were included in the EPA's finale rulemaking to establish RFS volume standards for 2020, 2021, and 2022 (87 FR 39600, July 1, 2022).

The recordkeeping and reporting requirements allow the EPA to monitor compliance of biointermediate producers, renewable identification number (RIN) generators who are renewable fuel producers who use biointermediates, biointermediate importers, and specific third parties (e.g., quality assurance plan, or QAP, providers). This ICR is related to the general collection related to RFS, which bears OMB Control No. 2060-0725 (expiring November 30, 2025).

Form Numbers: RFS0107 (5900-631), RFS0602 (5900-290), RFS0702 (5900-289), RFS0801 (5900-293), RFS0902 (5900-278), RFS2001 (5900-633), RFS2101 (5900-634), RFS2201 (5900-636), RFS2301 (5900-636), RFS2400 (5900-361), RFS4000 (5900-529).

Respondents/affected entities: Biointermediate producers, RIN generators (renewable fuel producers), biointermediate importers, third parties (including QAP providers).

Respondent's obligation to respond: mandatory under 40 CFR parts 80 and 1090.

Estimated number of respondents: 926 (total).

Frequency of response: quarterly, annually, on occasion.

Total estimated burden: 21,942 hours (per year). Burden is defined at 5 CFR 1320.03(b).

Total estimated cost: $1,556,191 (per year), which includes $0 annualized capital or operation & maintenance costs.

Changes in the estimates: There is a decrease of 145,443 hours in the total estimated respondent burden compared with the ICR currently approved by OMB. This decrease is due to far fewer parties who have actually registered as biointermediate producers than the original estimates anticipated in the RFS final rule for 2020-2022 as a potential upper limit. Since the initial estimates were made, we now know that very few parties (far fewer than 10) have registered as biointermediate producers, although we anticipated as many as 60 might register at the start of the program. Similarly, we now know from registrations that very few parties (far fewer than 10) have registered as RIN generators related to biointermediates, although we anticipated as many as 90 at the start. We have readjusted our estimates to reflect the reality of participation in the first three years of this ICR.

Byron Bunker,
Director, Implementation, Analysis and Compliance Division.

[FR Doc. 2025-06877 Filed 4-25-25; 8:45 am]

BILLING CODE 6560-50-P